DEPARTMENT OF TRANSPORTATION

Surface Transportation Board

[STB Docket Nos. AB-590X and AB-193 (Sub-No. 2X)]

Maryland Mass Transit Administration—Abandonment Exemption in Baltimore City, Baltimore County, and Anne Arundel County, MD and Canton Railroad Company—Discontinuance of Trackage Rights Exemption

Maryland Mass Transit Administration (MTA) and Canton Railroad Company (Canton) have filed a notice of exemption under 49 CFR 1152 Subpart F—Exempt Abandonments and Discontinuances of Trackage Rights for MTA to abandon and Canton to discontinue trackage rights over MTA's line of railroad known as the South Line-Central Light Rail Line (Line) from the Line's point of connection with CSX Transportation, Inc. (CSXT) at Patapsco Avenue in Baltimore City, MD (CSXT milepost 0.0, Clifford Junction, MD), to the end of the Line at Dorsey (Dorsey Road), in Glen Burnie, MD, within Baltimore City, Baltimore County, and Anne Arundel County, MD. The line traverses United States Postal Service Zip Codes 21225, 21227, 21090, and 21061.

MTA and Canton have certified that: (1) No local traffic has moved over the line for at least 2 years; (2) there is no overhead traffic that is to be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line R. Co.—Abandonment—Goshen, 360 I.C.C. 91 (1979). To address whether this condition adequately protects affected employees, a petition for partial revocation under 49 U.S.C. 10502(d) must be filed. Provided no formal expression of intent to file an offer of financial assistance (OFA) has been received, these exemptions will be effective on September 28, 2001, unless stayed pending reconsideration. Petitions to stay that do not involve environmental issues,¹ formal expressions of intent to file an OFA under 49 CFR 1152.27(c)(2) ² and trail use/rail banking requests under 49 CFR 1152.29 must be filed by September 10, 2001. Petitions to reopen or requests for public use conditions under 49 CFR 1152.28 must be filed by September 18, 2001, with: Surface Transportation Board, Office of the Secretary, Case Control Unit, 1925 K Street, N.W., Washington, DC 20423.

¹ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

² Each offer of financial assistance must be accompanied by the filing fee, which currently is set for $1000. See 49 CFR 1002.2(f)(25).

MTA states that the line is suitable for the public purpose of light rail mass transportation, and it will continue to use the right-of-way for provision of such service after the abandonment and discontinuance take effect. MTA also states that the Line is not suitable for any other concurrent use, public or private and it is not willing to transfer title to the right-of-way or use the property for other than light rail purposes.

A copy of any petition filed with the Board should be sent to applicants' representative: Jamie P. Rennert, Esq., Foley & Lardner, 888 Sixteenth Street, N.W., Washington, DC 20006.

If the verified notice contains false or misleading information, the exemption is void ab initio.

MTA and Canton have filed an environmental report which addresses the abandonment's effects, if any, on the environment and historic resources. SEA will issue an environmental assessment (EA) by August 31, 2001. Interested persons may obtain a copy of the EA by writing to SEA (Room 500, Surface Transportation Board, Washington, DC 20423) or by calling SEA, at (202) 565-1545. Comments on environmental and historic preservation matters must be filed within 15 days after the EA becomes available to the public.

Pursuant to the provisions of 49 CFR 1152.29(e)(2), MTA shall file a notice of consummation with the Board to signify that it has exercised the authority granted and fully abandoned its line. If consummation has not been effected by MTA's filing of a notice of consummation by August 29, 2002, and there are no legal or regulatory barriers to consummation, the authority to abandon will automatically expire.

Board decisions and notices are available on our website at “WWW.STB.DOT.GOV.”

Decided: August 22, 2001.
By the Board, David M. Konschnik, Director, Office of Proceedings.
Vernon A. Williams,
Secretary.

[FR Doc. 01-21794 Filed 8-28-01; 8:45 am]

BILLING CODE 4915-00-P